DEPARTMENT OF ENERGY

Federal Energy Regulatory Commission

[Docket No. RP98-54-030]

Colorado Interstate Gas Company; Notice of Offer of Settlement

March 31, 2000.

Take notice that on March 21, 2000, the Kansas Independent Oil and Gas Association (KIOGA), filed an Offer of Settlement relating to Kansas ad valorem taxes under Rule 602 of the Commission's Rules of Practice and Procedure. KIOGA's Offer of Settlement is intended to provide appropriate relief for the royalty owners and the smaller working interest owners from the requirements of Public Service Company of Colorado v. FERC ¹ and the Commission's subsequent orders. A copy of the Offer of Settlement is on file with the Commission and is available for public inspection in the Public Reference Room. The Offer of Settlement may be viewed on the web at http://www.ferc.fed.us/online/rims.htm (call 202-208-2222 for assistance).

¹ 91 F.3d 1478 (D.C. Cir., 1996), cert. denied 520 U.S. 1227 (1997).

KIOGA asserts that the public interest in eliminating claims against royalty owners and the smaller producers is manifest. Accordingly, KIOGA's Offer of Settlement, would:

(1) Eliminate all claims for the royalty portion of any refunds and interest with a credit of 25% of the total claim;

(2) Provide an additional $75,000 credit for each working interest in each claim; and

(3) Limit the claims to the total amount filed by each pipeline in November of 1997.

In accordance with section 385.602(f), initial comments on the Offer of Settlement are due on April 10, 2000 and any reply comments are due on April 20, 2000.

Linwood A. Watson, Jr.,
Acting Secretary.

[FR Doc. 00-8478 Filed 4-5-00; 8:45 am]

BILLING CODE 6717-01-M